SMALL BUSINESS ADMINISTRATION

[Disaster Declaration #12524 and #12525]

Wisconsin Disaster Number WI-00029

AGENCY: U.S. Small Business Administration.

ACTION: Amendment 1.

SUMMARY: This is an amendment of the Presidential declaration of a major disaster for Public Assistance Only for the State of Wisconsin (FEMA-1966-DR), dated 04/05/2011.

Incident: Severe winter storm and snowstorm.

Incident Period: 01/31/2011 through 02/03/2011.

Effective Date: 05/03/2011.

Physical Loan Application Deadline Date: 06/06/2011.

Economic Injury (Eidl) Loan Application Deadline Date: 01/05/2012.

ADDRESSES: Submit completed loan applications to: U.S. Small Business Administration, Processing And Disbursement Center, 14925 Kingsport Road Fort Worth, TX 76155.

FOR FURTHER INFORMATION CONTACT: A Escobar, Office of Disaster Assistance, U.S. Small Business Administration, 409 3rd Street, SW., Suite 6050, Washington, DC 20416.

SUPPLEMENTARY INFORMATION: The notice of the President's major disaster declaration for Private Non-Profit organizations in the State of Wisconsin, dated 04/05/2011, is hereby amended to include the following areas as adversely affected by the disaster.

Primary Counties: Green.

All other information in the original declaration remains unchanged.

(Catalog of Federal Domestic Assistance Numbers 59002 and 59008)

Roger B. Garland,
Acting Associate Administrator for Disaster Assistance.

[FR Doc. 2011-11646 Filed 5-11-11; 8:45 am]

BILLING CODE 8025-01-P